DEPARTMENT OF LABOR

Employment and Training Administration

[TA-W-75,218]

International Automotive Components, North America, Including On-Site Leased Workers From At-Work Personnel and CJR Solutions, d/b/a Harvard Resources Solutions, Lebanon, VA; Amended Certification Regarding Eligibility To Apply for Worker Adjustment Assistance

In accordance with Section 223 of the Trade Act of 1974, as amended (“Act”), 19 U.S.C. 2273, the Department of Labor issued a Certification of Eligibility to Apply for Worker Adjustment Assistance on April 6, 2011, applicable to workers of International Automotive Components, North America, including on-site leased workers from At-Work Personnel and CJR Solutions, d/b/a Harvard Resources Solutions, Lebanon, Virginia. The notice was published in the Federal Register on April 22, 2011 (76 FR 22732).

At the request of the State Agency, the Department reviewed the certification for workers of the subject firm. The workers are engaged employment related to the production of component parts for the automotive industry.

The review shows that on January 28, 2009, a certification of eligibility to apply for adjustment assistance was issued for workers of International Automotive Components, North America, Lebanon, Virginia, separated on or after December 29, 2007 through January 28, 2011. The Department's Notice was published in the Federal Register on February 23, 2009 (74 FR 8115).

In order to avoid an overlap in worker group coverage, the Department is amending the February 9, 2010 impact date established for TA-W-75,218 to read January 29, 2011.

The amended notice applicable to TA-W-75,218 is hereby issued as follows:

All workers of International Automotive Components, North America, including on-site leased workers from At-Work Personnel and CJR Solutions, d/b/a Harvard Resource Solutions, Lebanon, Virginia, who became totally or partially separated from employment on or after January 29, 2011, through April 6, 2013, and all workers in the group threatened with total or partial separation from employment on date of certification through two years from the date of certification, are eligible to apply for adjustment assistance under Chapter 2 of Title II of the Trade Act of 1974, as amended.

Signed in Washington, DC, this 11th day of May 2011.
Del Min Amy Chen,
Certifying Officer, Office of Trade Adjustment Assistance.

[FR Doc. 2011-12579 Filed 5-20-11; 8:45 am]

BILLING CODE 4510-FN-P